DEPARTMENT OF VETERANS AFFAIRS

Veterans and Community Oversight and Engagement Board, Notice of Meeting

The Department of Veterans Affairs (VA) gives notice under the Federal Advisory Committee Act, 5 U.S.C. 10, that the Veterans and Community Oversight and Engagement Board (VCOEB) will meet on February 15-16, 2023, at 11301 Wilshire Boulevard, Building 500, Room 1281, Los Angeles, CA. The meeting sessions will begin, and end as follows:

Date | Time
February 15, 2023 | 8:30 a.m. to 5:00 p.m.—Pacific Daylight Time (Pacific Daylight Time).
February 16, 2023 | 8:30 a.m. to 4:00 p.m.—Pacific Daylight Time (PDT).

The meetings are open to the public and will be recorded.

The Board was established by the West Los Angeles Leasing Act of 2016 on September 29, 2016. The purpose of the Board is to provide advice and make recommendations to the Secretary of Veterans Affairs on identifying the goals of the community and Veteran partnership; improving services and outcomes for Veterans, members of the Armed Forces, and the families of such Veterans and members; and on the implementation of the Draft Master Plan approved by VA Secretary on January 28, 2016, and on the creation and implementation of any successor master plans.

On Wednesday, February 15, 2023, from 8:30 a.m. to 5:00 p.m., the Committee will meet in open session with key staff of the VA Greater Los Angeles Healthcare System, (VAGLAHS). The agenda will include mandatory Federal Advisory Committee Act 101 training for all Board members, followed by opening remarks from the Committee Chair, Executive Sponsor, and other VA officials. There will be a general update from the Director of the VA Greater Los Angeles Healthcare System (VAGLAHS). The Community Engagement and Reintegration Service Office will provide an overview of the diversity of medical and housing needs among homeless Veterans in L.A., housing resources necessary to meet the needs, and an update on services and strategy to provide the needed services to the new occupants. VAGLAHS will also present a comprehensive briefing on the implementation and initial results for the temporary housing call center, an update on the Enhanced Use Lease referral process, and CTRS enhancements. Each Enhanced Use Lease developer is scheduled to provide an updated status of ongoing construction to include projected completion date, proposed move in plan, current selected service provider, and details of the service plans.

On Thursday, February 16, 2023, the Board will reconvene in open session from 8:30 a.m. to 4:00 p.m., at 11301 Wilshire Boulevard, building 500, Room 1281, Los Angeles, CA, and receive a informative presentation from the ETS Sponsorship Program that promotes social welfare for transitioning service members, Veterans, and Veteran's communities. The Board has requested a status update from the Office of General Counsel on the naming guidance and current compliance for facilities located on the West Los Angles campus. The Board's subcommittees on Outreach and Community Engagement with Services and Outcomes, and Master Plan with Services and Outcomes will provide an out brief to the full Board and update on draft recommendations to be considered for forwarding to the SECVA.

Time will be allocated for receiving public comments on February 15, at 12:35 p.m. Individuals wishing to make public comments should contact Chihung Szeto at (562) 708-9959 or at Chihung.Szeto@va.gov and are requested to submit a 1-2-page summary of their comments for inclusion in the official meeting record. Only those members of the public (first 12 public comment registrants) who have confirmed registrations to provide public comment will be allowed to provide public comment. In the interest of time, each speaker will be held to 5-minute time limit. The Committee will accept written comments from interested parties on issues outlined in the meeting agenda, from February 13 through February 17, 2023.

Members of the public not able to attend in person can attend the meeting via WEBEX by joining from the meeting link below. In person attendance will be in accordance with the Veterans Health Administration's COVID operations plan and Medical Center Director's health protection guidelines. The link will be active from 8:00 a.m.-5:45 p.m. (PDT) daily, 15—16 February 2023.

Join From the Meeting Link

https://veteransaffairs.webex.com/veteransaffairs/j.php?MTID=me553431bd297c23c9979e9e0991e776b

Join by Meeting Number

Meeting Number: (access Code) 2764 293 4373

Meeting Password: ADanwBJ6$34

Tap to join from a mobile device (attendees only): 14043971596,,2764293437## USA Toll Number

Join by Phone

+14043971596 USA Toll Number

Global call-in numbers | Toll-free calling restrictions

Join from a video system or application: Dial 27642934373@veteransaffairs.webex.com.

You can also dial 207.182.190.20 and enter your meeting number.

Need help? Go to https://help.webex.com.

Any member of the public seeking additional information should contact Mr. Eugene W. Skinner Jr. at (202) 631-7645 or at Eugene.Skinner@va.gov.

Dated: January 17, 2023.
Jelessa M. Burney,
Federal Advisory Committee Management Officer.

[FR Doc. 2023-01080 Filed 1-19-23; 8:45 am]

BILLING CODE P